DEPARTMENT OF ENERGY

Federal Energy Regulatory Commission

Combined Notice of Filings #1

Take notice that the Commission received the following electric corporate filings:

Docket Numbers: EC22-66-000.

Applicants: Archaea Infrastructure, LLC, Ingenco Wholesale Power, L.L.C., Collegiate Clean Energy, LLC.

Description: Joint Application for Authorization Under Section 203 of the Federal Power Act of INGENCO Wholesale Power, L.L.C., et al.

Filed Date: 5/17/22.

Accession Number: 20220517-5206.

Comment Date: 5 p.m. ET 6/7/22.

Take notice that the Commission received the following exempt wholesale generator filings:

Docket Numbers: EG22-123-000.

Applicants: Shakes Solar, LLC.

Description: Notice of Self-Certification of Exempt Wholesale Generator Status of Shakes Solar, LLC.

Filed Date: 5/17/22.

Accession Number: 20220517-5193.

Comment Date: 5 p.m. ET 6/7/22.

Take notice that the Commission received the following Complaints and Compliance filings in EL Dockets:

Docket Numbers: EL21-77-000.

Applicants: Tenaska Clear Creek Wind, LLC v. Southwest Power Pool, Inc.

Description: Southwest Power Pool, Inc. submits Revised Results of the Restudy of the Tenaska Clear Creek Wind Project in Response to the December 16 Order.

Filed Date: 5/13/22.

Accession Number: 20220513-5192.

Comment Date: 5 p.m. ET 6/3/22.

Take notice that the Commission received the following electric rate filings:

Docket Numbers: ER17-1821-004.

Applicants: Panda Stonewall LLC.

Description: Refund Report: Potomac Energy Center, LLC submits tariff filing per 35.19a(b): Refund Report to be effective N/A.

Filed Date: 5/18/22.

Accession Number: 20220518-5128.

Comment Date: 5 p.m. ET 6/8/22.

Docket Numbers: ER21-2526-003.

Applicants: New York Independent System Operator, Inc.

Description: Compliance filing: NYISO Compliance Filing Errata re: Order 676-I NAESB/WEQ Standards to be effective 6/2/2022.

Filed Date: 5/18/22.

Accession Number: 20220518-5097.

Comment Date: 5 p.m. ET 6/8/22.

Docket Numbers: ER22-1447-001.

Applicants: Midcontinent Independent System Operator, Inc., Ameren Illinois Company.

Description: Tariff Amendment: Midcontinent Independent System Operator, Inc. submits tariff filing per 35.17(b): 2022-05-18_SA 2685 Ameren-SIPC Adams Road Proj Spec 2 to be effective 5/18/2022.

Filed Date: 5/18/22.

Accession Number: 20220518-5110.

Comment Date: 5 p.m. ET 6/8/22.

Docket Numbers: ER22-1896-000.

Applicants: Consolidated Edison Company of New York, Inc.

Description: § 205(d) Rate Filing: NYPA Filing Phase I NEM 5-17-2022 to be effective 5/17/2022.

Filed Date: 5/17/22.

Accession Number: 20220517-5177.

Comment Date: 5 p.m. ET 6/7/22.

Docket Numbers: ER22-1897-000.

Applicants: Black Hills Colorado Electric, LLC.

Description: § 205(d) Rate Filing: Certificate of Concurrence for Transmission Interconnection Agreement to be effective 5/18/2022.

Filed Date: 5/17/22.

Accession Number: 20220517-5185.

Comment Date: 5 p.m. ET 6/7/22.

Docket Numbers: ER22-1898-000.

Applicants: PJM Interconnection, L.L.C.

Description: § 205(d) Rate Filing: Original ISA No. 6447; Queue No. AE2-046 to be effective 4/19/2022.

Filed Date: 5/18/22.

Accession Number: 20220518-5074.

Comment Date: 5 p.m. ET 6/8/22.

Docket Numbers: ER22-1899-000.

Applicants: PJM Interconnection, L.L.C.

Description: § 205(d) Rate Filing: Original WMPA SA No. 6470; Queue No. AG1-198 to be effective 4/19/2022.

Filed Date: 5/18/22.

Accession Number: 20220518-5092.

Comment Date: 5 p.m. ET 6/8/22.

Docket Numbers: ER22-1900-000.

Applicants: PJM Interconnection, L.L.C.

Description: § 205(d) Rate Filing: ISA, SA No. 5361 and CSA, SA 5362; Queue No. AB2-099/AE2-346 to be effective 4/19/2022.

Filed Date: 5/18/22.

Accession Number: 20220518-5138.

Comment Date: 5 p.m. ET 6/8/22.

Take notice that the Commission received the following electric securities filings:

Docket Numbers: ES22-33-000.

Applicants: Southwest Power Pool, Inc.

Description: Supplement to Application Under Section 204 of the Federal Power Act for Authorization to Issue Securities of Southwest Power Pool, Inc.

Filed Date: 4/28/22.

Accession Number: 20220428-5443.

Comment Date: 5 p.m. ET 5/25/22.

Docket Numbers: ES22-47-000.

Applicants: Indianapolis Power & Light Company.

Description: Application Under Section 204 of the Federal Power Act for Authorization to Issue Securities of Indianapolis Power & Light Company.

Filed Date: 5/18/22.

Accession Number: 20220518-5106.

Comment Date: 5 p.m. ET 6/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2022.
Debbie-Anne A. Reese,
Deputy Secretary.

[FR Doc. 2022-11167 Filed 5-23-22; 8:45 am]

BILLING CODE 6717-01-P